DEPARTMENT OF ENERGY

Federal Energy Regulatory Commission

[Project No. 2558-029]

Green Mountain Power Corporation; Notice of Availability of Draft Environmental Assessment

In accordance with the National Environmental Policy Act of 1969 and the Federal Energy Regulatory Commission (Commission) regulations, 18 CFR part 380 (Order No. 486, 52 FR 47897), the Office of Energy Projects has reviewed the application for a new license for the 21.595-megawatt (MW) Otter Creek Hydroelectric Project (Commission Project No. 2558-029) and has prepared a draft environmental assessment (draft EA). The project consists of three developments (Proctor, Beldens, and Huntington Falls) located on Otter Creek in Addison and Rutland counties, Vermont.

In the draft EA, Commission staff analyzes the potential environmental effects of relicensing the project and concludes that issuing a new license for the project, with appropriate environmental measures, would not constitute a major federal action significantly affecting the quality of the human environment.

A copy of the draft EA is available for review at the Commission in the Public Reference Room or may be viewed on the Commission's Web site at www.ferc.gov using the “eLibrary” link. Enter the docket number, excluding the last three digits, in the docket number field to access the document. For assistance, contact Commission Online Support at CommissionOnlineSupport@ferc.gov; toll-free at 1-866-208-3676; or for TTY, (202) 502-8659.

You may also register online at www.ferc.gov/docs-filing/esubscription.asp to be notified via email of new filings and issuances related to this or other pending projects. For assistance, contact Commission Online Support.

Any comments should be filed within 30 days from the date of this notice. Comments may be filed electronically via the Internet. See 18 CFR 385.2001(a)(1)(iii) and the instructions on the Commission's Web site www.ferc.gov/docfiling/efiling.asp. Commenters can submit brief comments up to 6,000 characters, without prior registration, using the eComment system at www.ferc.gov/docsfiling/ecomment.asp. You must include your name and contact information at the end of your comments. For assistance, please contact Commission Online Support. Although the Commission strongly encourages electronic filing, documents may also be paper-filed. To paper-file, mail an original and seven copies to: Kimberly D. Bose, Secretary, Federal Energy Regulatory Commission, 888 First Street NE., Washington, DC 20426. Please affix, “Otter Creek Hydroelectric Project, P-2558-029” to all comments.

For further information, contact Aaron Liberty at (202) 502-6862 or by email at aaron.liberty@ferc.gov.

Dated: December 21, 2012.
Kimberly D. Bose,
Secretary.

[FR Doc. 2013-00017 Filed 1-4-13; 8:45 am]

BILLING CODE 6717-01-P